NATIONAL COUNCIL ON DISABILITY

International Watch Advisory Committee Meetings (Conference Calls)

Time and Dates for 2004: 12 noon, Eastern Time, January 15, March 4, May 6, July 8, September 2, November 4.

Place: National Council on Disability, 1331 F Street, NW., Suite 850, Washington, DC.

Agency: National Council on Disability (NCD).

Status: All parts of these conference calls will be open to the public. Those interested in participating in conference calls should contact the appropriate staff member listed below. Due to limited resources, only a few telephone lines will be available for each conference call.

Agenda: Rollcall, announcements, overview of accomplishments, planning, reports, new business, adjournment.

For Further Information Contact: Joan M. Durocher, Attorney Advisor and Designated Federal Official, National Council on Disability, 1331 F Street, NW., Suite 850, Washington, DC 20004; (202) 272-2004 (voice), (202) 272-2074 (TTY), (202) 272-2022 (fax), jdurocher@ncd.gov (e-mail).

International Watch Advisory Committee Mission: The purpose of NCD's International Watch is to share information on international disability issues and to advise NCD on developing policy proposals that will advocate for a foreign policy that is consistent with the values and goals of the Americans with Disabilities Act.

Dated: November 12, 2003.
Ethel D. Briggs,
Executive Director.

[FR Doc. 03-28715 Filed 11-17-03; 8:45 am]

BILLING CODE 6820-MA-P